SECURITIES AND EXCHANGE COMMISSION

Proposed Collection; Comment Request

Upon written request, copies available from: Securities and Exchange Commission, Office of Filings and Information Services, Washington, DC 20549

Extension:

Form 8-A, OMB Control No. 3235-0056, SEC File No. 270-54

Form 18-K, OMB Control No. 3235-0120, SEC File No. 270-108

Notice is hereby given that pursuant to the Paperwork Reduction Act of 1995 (44 U.S.C. 3501 et seq.) the Securities and Exchange Commission (“Commission”) is soliciting comments on the collections of information summarized below. The Commission plans to submit these existing collections of information to the Office of management and Budget for extension and approval.

Form 8-A (OMB Control No. 3235-0056, SEC File No. 270-54) is a registration statement for certain classes of securities pursuant to Section 12(b) and 12(g) of the Securities Exchange Act of 1934. The information required on Form 8-A provides investors with the necessary information to make investment decisions regarding securities offered to the public. The likely respondents will be companies. The information collected must be filed with the Commission on occasion. Form 8-A is a public document. Form 8-A takes approximately 3 hours to prepare and is filed by 1,540 respondents for a total of 4,620 burden hours.

Form 18-K (OMB Control No. 3235-0120; SEC File No. 270-108) is used as an annual report for foreign governments and political subdivisions with securities listed on a United States exchange. Form 18-K permits verification of compliance with securities law requirements and assures the public availability and dissemination of such information. The information collected on Form 18-K must be filed with the Commission annually. Form 18-K is a public document Form 18-K takes approximately 8 hours to prepare and is filed by 20 respondents for a total of 160 burden hours.

Written Comments are invited on (a) Whether the proposed collection of information is necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Michael E. Bartell, Associate Executive Director, Office of Information Technology Securities and Exchange Commission, 450 5th Street NW, Washington, DC 20549.

Dated: May 9, 2000.
Margaret H. McFarland,
Deputy Secretary.

[FR Doc. 00-12407 Filed 5-16-00; 8:45 am]

BILLING CODE 8010-01-M